DEPARTMENT OF JUSTICE

Antitrust Division

Notice Pursuant to the National Cooperative Research and Production Act of 1993—Medical Technology Enterprise Consortium

Notice is hereby given that, on November 29, 2021, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Integration Innovation Inc., Huntsville, AL; HackerOne, San Francisco, CA; Advanced Materials and Devices, Inc., Reno, NV; Cimarron Software Services Inc.,Houston, TX; Delta Chase LLC., West Chester, OH; Virginia Commonwealth University, Richmond, VA; H&H Medical Corporation, Williamsburg, VA; Spectrohm Inc. Tysons Corner, VA; Rubix LS, Lawrence, MA; University of Florida, Gainesville, FL; Phagelux (Canada) Inc., Montréal, CAN; Next Science, LLC., Jacksonville, FL; BlackBox Biometrics, Inc. (B3) Rochester, NY; VitaCyte LLC., Indianapolis, IN; Synedgen, Inc., Claremont, CA; KeriCure Medical, Wesley Chapel, FL; Kurve Technology Inc., Lynnwood,WA; SweetBio, Inc. Memphis, TN; DLH Silver Spring, MD; Novel Technologies Holdings Limited, Manchester, NH; KERECIS Limited, Isafjordur, ISL; NanoOxygenic LLC., Dallas, PA; Georgia State University Research Foundation, Inc. Atlanta, GA; Retia Medical LLC., Valhalla, NY; AivoCode Inc. La Jolla, CA; Medical Informatics Corp., Houston, TX; Technatomy Corporation Fairfax, VA; Terida LLC. Pinehurst, NC; Appili Therapeutics, Inc., Halifax, CAN; Continuous Precision Medicine(CPM) Research, Triangle Park, NC; Overseas Strategic Consulting, Ltd, Philadelphia, PA; Vizbii Technologies, Inc., Charleston, SC; Anthem Engineering LLC., Elkridge,MD; Perfusion Medical, LLC. Reston, VA; New York University, New York, NY; Catharsis Productions, Chicago,IL; University of New Hampshire Durham, NH; Aldyn, Boston, MA; GEN-AVIV LLC., North Miami Beach, FL; NeuroFlow, Inc., Philadelphia, PA; Advancement Strategy, LLC., Columbia, MD.; Belle Artificial Intelligence Corporation, Cambridge, MA; Diagnoss Inc, Pomona, CA; San Diego State University, San Diego, CA; Dovel Technologies, McLean, VA; ASSURSEC, LLC., LEESBURG, VA; Rhode Island Hospital, Providence, RI; University of Connecticut, Storrs, CT; Alertgy, Inc. MELBOURNE, FL; Boston University, Boston, MA; MBio Diagnostics, Inc. dba LightDeck Diagnostics, Boulder, CO; Pacific Institute for Research and Evaluation, Beltsville, MD; Tactical Medical Solutions, LLC., Anderson, SC; ViiNetwork, Inc., ViiMed, Washington, DC; Renaissance Biotech, LLC., Malibu, CA; Bio1 Systems, Inc., San Carlos, CA; DataRobot, Boston, MA; Knowesis Inc., Fairfax, VA; MassBiologics of the UMMS, Boston, MA; SOLUTE Inc., San Diego, CA; Aktiv Pharma Group, Broomfield, CO; Bettermeant, Inc., Berkeley, CA; SanMelix Laboratories, Inc., Hollywood, FL; Viscus Biologics LLC., Cleveland, OH; Guidehouse Inc. Falls Church, VA; Movement Rx Physical Therapy, P.C., San Diego, CA; Promethean LifeSciences, Inc., Pittsburgh, PA; Tygrus LLC., Troy, MI; MiMedx Group, Inc., Marietta, GA; Neomatrix Therapeutics, Inc., Stony Brook, NY; PuraLab LLC., Wilsonville, OR; InterSystems Corporation, Cambridge, MA; Full Spectrum Omega, Inc., Los Angeles, CA; Rockland Technimed Limited, Mahwah, NJ; MediWound, Ltd., Yavne, ISR; Primmune Therapeutics, Inc., San Diego, CA; Western Michigan University Homer Stryker M.D. School of Medicine, Kalamazoo, MI; Emmes Company LLC., Rockville MD; Canvas Incorporated, Huntsville, AL; Purgo Scientific, LLC., South Jordan, UT; Dascena, Houston, TX; Through The Cords LLC., Salt Lake City, UT; Armed Forces Services Corporation dba Magellan Federal, Arlington, VA; Immuron Limited, Victoria, AUS; Terumo BCT Biotechnologies, LLC., Lakewood, CO; TourniTek, Seattle, WA; West Therapeutic Development, LLC., Northbrook, IL; Maryland Development Center, Baltimore, MD; Tessonics Medical Systems Inc., BIRMINGHAM, MI; Vir Biotechnology, San Francisco, CA; Wound Exam Corp., Beverly Hills, CA; Creare LLC., Hanover, NH; Drexel University, Philadelphia, PA; Exploration Institute, Cheyenne, WY; Graftworx, Inc.dba Alio, San Francisco, CA; NeurAegis, Inc. Southborough, MA; Stream Biomedical, Inc., Houston, TX; ZIEN Medical Technologies Inc., Salt Lake City, UT; Alcamena Stem Cell Therapeutics, LLC., Halethorpe, MD; Auburn University, Auburn, AL; BioAge Labs, Inc., Richmond, CA; Osteal Therapeutics, Inc., San Clemente, CA; VES LLC., Wilmington, OH; WearOptimo Woolloongabba, Queensland, AUS; Nexsys Electronics Inc. dba Medweb, San Francisco, CA; Cornerstone Research Group, Miamisburg, OH; Digital Infuzion Inc., Gaithersburg, MD; Hewlett Packard Enterprise, Reston, VA; Sonix Medical Devices Inc., Braselton, GA; Parallax Advanced Research Corporation, Beavercreek, OH; Programs Management Analytics & Technologies, Inc.; Norfolk, VA; Grand Valley State University, Grand Rapids, MI; KBR Wyle Services LLC., Beavercreek, OH Life365 Inc., Scottsdale, AZ; Synthesis Technologies, Inc., Pasadena, CA; IRegained Inc., Sudbury, CAN; TDA Research Inc., Wheat Ridge, CO; Think-Dragon, LLC., Ellicott City, MD; Healing Our Heroes Foundation DBA The Mission After, Del Mar, CA; Acer Therapeutics Inc., Newton, MA; ArchieMD Inc., Boca Raton, FL; Augmntr Inc., Berthoud, CO; D&K Engineering, San Diego, CA; Phlow Corp., Richmond, VA; Q30 Sports Science, LLC., Westport, CT; Scandinavian Biopharma Holding AB, Solna, SWE; CFD Research Corporation, Huntsville, AL; Endomedix, Inc., Montclair, NJ; Fusion Consulting Inc., Farmers Branch, TX; Voltron Therapeutics, New York, NY; Kopis Mobile LLC., Flowood, MS; Rain Technologies LLC., Las Vegas, NV; Tagup Inc., Somerville, MA; ZuluCare LLC., Bethpage, NY; Evidence Based Psychology LLC dba Susan David, Newton, MA; Kreative Technologies, LLC., Fairfax, VA; NeurOptics Inc., Irvine, CA; Oxygenium Inc., Great Neck, NY; Sentio Solutions Inc., San Francisco, CA; Navitas Business Consulting Inc., Herndon, VA; Presidio Government Solutions LLC., Reston, VA; University of Nebraska Medical Center, Omaha, NE; Evren Technologies, Inc., Newberry, FL; Kowa Inc., Houston, TX; LexisNexis Risk Solutions Inc., Washington, DC; Martellus Pty Ltd, Sydney, AUS; RevMedx Inc., Wilsonville, OR; electroCore Inc., Rockaway, NJ; GRIP Molecular Technologies Inc., Saint Paul, MN; Orthoforge, Inc, East Grand Rapids, MI; Plantiga Technologies Inc., Vancouver, CAN; Zansors LLC., Arlington, VA; GlobalMedia Group LLC., Scottsdale, AZ; GRI Technology Solutions, LLC., Durham, NC; Wearable Artificial Organs Inc., Beverly Hills, CA; Memsel Inc. Halton City, TX; Turner Innovations, Orem, UT; Circadian Positioning Systems Inc., Newport, RI; Levi Diagnostics, Inc., Fall River, MA; MeMed US Inc., Milpitas, CA; Riverside Research, Arlington, VA; Texas Tech University, Lubbock, TX; W.R. Joyce Incorporated, Michigan City, IN; Strive Tech Inc., Bothell, WA; NervGen Pharma Corp., Vancouver, CAN; Yale University, New Haven, CT; QuesGen Systems, Burlingame, CA; AirSupport LLC., Baltimore, MD; Gel4Med, Lowell, MA; MediView XR Inc., Cleveland, OH; Perceptive Medical Inc., Newport Beach, CA; iGov Technologies, Inc., Tampa, FL; International Fabric Machines, Boston, MA; Tanner Research Inc., Duarte, CA; Board of Supervisors of Louisiana State University and Agricultural and Mechanical College, represented by Pennington Biomedical Research Center, Baton Rouge, LA; MindLab LLC., New York, NY; Sperry Medtech, Inc., Springfield, VT; Eurofins ARCA Technology Inc., Huntsville, AL; Odin Technologies, Charlotte, NC; Rajant Corporation, Malvern, PA; Viele Exploratory Sustainable Solutions LLC., Livingston Manor, NY; Iris Technology Corporation, Irvine, CA; PSYONIC Inc., Champaign, IL; Cayuga Biotech, Inc., Basking Ridge, NJ; Imeka Solutions Inc., Sherbrooke Quebec, CAN; Malum Inc., Coralville, IA; PercuSense Inc., Valencia, CA; PhAST Corp., Cambridge, MA; THE RESEARCH INSTITUTE OF THE MCGILL UNIVERSITY HEALTH CENTRE, Montreal, CAN; Case Western Reserve University, Cleveland, OH; Global Institute of Stem Cell Therapy and Research Inc., San Diego, CA; Hero Medical Technologies Inc., Ponte Vedra Beach, FL; Plymouth Rock Technologies Inc.; Plymouth, MA; StataDX, Inc., Cambridge, MA; Throne Biotechnologies Inc., Paramus, NJ; TiER1 Performance Solutions, Covington, KY; Traumatic Direct Transfusion Devices LLC., Raleigh, NC; SeaStar Medical Inc., Denver, CO; The Florida International University Board of Trustees, Miami, FL; Carnegie Mellon University, Pittsburgh, PA; Georgia Tech Research Corporation, Atlanta, GA; MEDX SpA Región metropolitana, Santiago de Chile., CHL; BioFire Defense LLC., Salt Lake City, UT; Phiex Technologies Inc., Boston, MA; Celerens, LLC., Clarksville, MD; luxML LLC., San Antonio, TX; Optum Public Sector Solutions Inc., Falls Church, VA; Florida Institute for Human & Machine Cognition, Pensacola, FL; Noninvasix Inc., Houston, TX; American Systems, Chantilly, VA; Five Vital Signs, Houston, TX; Corvid Technologies, LLC., Mooresville, NC; PreVeteran Group LLC., Jackson, WY; Antiviral Technologies LLC., Dallas, TX; Altec Incorporated Natick, MA; iFyber LLC., Ithaca, NY; OrganaBio LLC., South Miami, FL; Kinsa Inc., San Francisco, CA; Maxwell Biosciences Inc., Austin, TX; University of Massachusetts Lowell, Lowell, MA; Delta Development Team Inc., Tucson, AZ; Zymeron Corporation, Durham, NC; Curia Global Inc., Albany, NY; SYNC-THINK. INC., Palo Alto, CA; The Domenix Corporation dba Relevant Technology Inc., Chantilly, VA; Nihon Kohden OrangeMed Inc., Santa Ana, CA; Greenlight Guru, Indianapolis, IN; Rosalind Franklin University of Medicine & Science, North Chicago, IL; Phycin Inc., Frederick, MD; The Washington University, St. Louis, MO; NIRSense LLC., Richmond, VA; Tao Treasures LLC dba Nanobiofab, Frederick, MD; have been added as parties to this venture.

Also, ACF Technologies, Inc., Asheville, NC; Benchmark Electronics Inc., Scottsdale, AZ; CIYIS, LLC., Atlanta, GA; Cohen Veterans Bioscience, Inc., Cambridge, MA; DEFTEC Corporation, Huntsville, AL; FHI Clinical Inc., Durham, NC; Indiana Biosciences Research Institute, Indianapolis, IN; Innovenn, Inc., Madison, WI; ISEC7 Inc., Baltimore, MD; Nano Terra, Inc., Cambridge, MA; New Jersey Institute of Technology, Newark, NJ; Ripple LLC., Salt Lake City, UT; Systems Engineering Solutions Corporation, Greenbelt, MD; Unissant, Inc., Herndon, VA; Universal Consulting Services, Inc., Fairfax, VA; 7-SIGMA Incorporated, Minneapolis, MN; Amydis, Inc., San Diego, CA; Kansas State University, Manhattan, KS; Knowmadics, Inc., Herndon, VA; Klox Technologies, Inc., Laval, CAN; Aceso Plasma, Virginia Beach, VA; JTEK Data Solutions, LLC., Bethesda, MD; nQ Medical, Inc., Johns Island, SC; Oculogica, Inc., New York, NY; Articulate Labs, Dallas, TX; MEMBIO INC., Kitchener, CAN; Shamrock Medical LLC., Phoenix, AZ; ADM Tronics Unlimited, Inc., Northvale, NJ; Distributed Bio, South San Francisco, CA; University of South Florida, Tampa, FL; Airway Medical Innovations Pty Ltd., Brisbane, Queensland, AUS; Beyond Barriers Therapeutics, Inc., Glencoe, IL; Cherish Health, Inc., Cambridge, MA; Csymplicity Software Solutions, Inc., Allentown, PA; GoDx, Inc., Madison, WI; Immunexpress Inc., Seattle, WA; LifeQ, Inc., Alpharetta, GA; MAE Group, Deerfield, NH; Media Riders Inc., Pearland, TX; Renovo Concepts, Inc., San Antonio, TX; Research Foundation for Mental Hygiene Inc. (NYSPI), New York, NY; SaNOtize Research & Development Corp., Vancouver, CAN; SimQuest, Annapolis, MD; Celularity, Warren, NJ; Bambu Vault, LLC., Lowell, MA; Digital For Mental Health (MYNDBLUE), Paris, FRA; Morgan 6, Charleston, SC; Rho Federal Systems Division, Inc. (RhoFED), Durham, NC; Sandstone Diagnostics, Inc., Pleasanton, CA; The Research and Recognition Project Inc., Corning, NY; Abram Scientific, Inc., Menlo Park, CA; Ace Laboratories Inc., Yarrow Point, WA; Acell, Inc., Columbia, MD; ActiBioMotion, LLC., Coralville, IA; Action Medical Technologies LLC., Conshohocken, PA; Acuity Systems LLC., Herndon, VA; AirStrip Technologies, San Antonio, TX; Atomo, Inc., West Lake Hills, TX; Auxocell Laboratories, Inc., Cambridge, MA; AxoGen Corporation, Alachua, FL; Bioflight, LLC., Akron, OH; BioMed SA, San Antonio, TX; Biotags LLC., Key Biscayne, FL; BioTether Sciences, Inc., San Rafael, CA; Blue Cirrus Consulting LLC., Greenville, SC; BrainScope Company, Inc., Bethesda, MD; Carnegie Mellon University, Pittsburgh, PA; Core Mobile Networks Inc.; DBA Core Mobile Inc., Campbell, CA; Daxor Corporation, New York, NY; Etiometry Inc., Boston, MA; Get Help Now LLC., Fort Myers, FL; Hememics Biotechnologies Inc., Gaithersburg, MD; Ichor Sciences, LLC., Nashville, TN; Infectious Disease Research Institute, Seattle, WA; Inflammatory Response Research Inc., Santa Barbara, CA; InTouch Technologies DBA InTouch Health, Goleta, CA; J.R. Reingold & Associates, Inc., Alexandria, VA; Jakris Technologies LLC, dba Digital Enterprise Solutions (DES), Wailuku, HI; Klaria AB, Uppsala, SWE; Level Ex, Inc., Chicago, IL; LOGGEREX INC., Deland, FL; Lundquist Institute at Harbor-UCLA & UCLA, Torrance, CA; Medcura, Inc., Riverdale, MD; Medicortex Finland Oy, Turku, FIN; Mespere LifeSciences Inc., Waterloo, Ontario, CAN; Millennium Enterprise Corporation, Fairfax, VA; Mineurva LLC., Albuquerque, NM; MY01 Inc., Montreal, QC, CAN; Nanohmics Inc., Austin, TX; Nanowear Inc., New York, NY; NeuEsse Inc., Dunbar, PA; NeuroRx, Inc., Wilmington, DE; Non-Invasive Medical Systems LLC., Stamford, CT; Nuada Orthopedics, Inc., Sherborn, MA; Predictions Systems Inc., Spring Lake, NJ; Presence Product Group, LLC., San Francisco, CA; Promaxo, Oakland, CA; Qool Therapeutics, Inc., Menlo Park, CA; Quantum Applied Science and Research, Inc., San Diego, CA; QUASAR Federal Systems, Inc., San Diego, CA; RAIN Scientific Inc., Asheville, NC; REACT Neuro, Cambridge, MA; Recogniti LLP., Hagerstown, MD; Remote Health LLC., Springfield, OH; Rutgers, The State University of New Jersey, New Brunswick, NJ; SAIC, Reston, VA; Schepens Eye Research Institute, Boston, MA; SightLife, Seattle, WA; Sim Vivo LLC., Essex, NY; Solutions Through Innovative Technologies, Inc., Fairborn, OH; STEL Technologies, LLC., Ann Arbor, MI; Symbinas Pharmaceuticals Inc., Jacksonville, FL; Techulon, Inc., Blacksburg, VA; The Johns Hopkins University Applied Physics Laboratory, LLC., Laurel, MD; Tissue Regeneration Sciences, Inc., Park City, UT; Tomorrow Lab LLC., New York, NY; Topadur Pharma AG, Schlieren, CHE; Vinformatix LLC., Baton Rouge, LA; VIRGINIA HIGH PERFORMANCE LLC., Virginia Beach, VA; VirtuSense Technologies, Inc., Peoria, IL; VoluMetrix LLC., Nashville, TN; Zane Networks, LLC., Washington, DC; Aptima, Inc., Woburn, MA; Stuart Therapeutics Inc., Stuart, FL; Vista LifeSciences, Inc., Parker, CO; Ceras Health Inc., New York, NY; CSA Biotechnologies, Chandler, AZ; Vigilent Labs Inc., Alexandria, VA have withdrawn as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on November 18, 2020. A notice was published in the Federal Register pursuant to Section 6(b) of the Act on December 09, 2020 (85 FR 79219).

Suzanne Morris,
Chief, Premerger and Division Statistics, Antitrust Division.

[FR Doc. 2022-00586 Filed 1-12-22; 8:45 am]

BILLING CODE 4410-11-P